DEPARTMENT OF ENERGY

Federal Energy Regulatory Commission

Combined Notice of Filings #1

Take notice that the Commission received the following electric corporate filings:

Docket Numbers: EC21-10-000.

Applicants: NextEra Energy Transmission, LLC, GridLiance West LLC, GridLiance High Plains LLC, GridLiance HeartLand LLC.

Description: Compliance filing to March 18, 2021 Order of NextEra Energy Transmission, LLC, et al.

Filed Date: 3/19/21.

Accession Number: 20210319-5285.

Comments Due: 5 p.m. ET 3/25/21.

Docket Numbers: EC21-66-000.

Applicants: Terra-Gen Power Holdings II, LLC, Energy Capital Partners III, LLC, Golden NA Power Holdings LLC.

Description: Application for Authorization Under Section 203 of the Federal Power Act of Terra-Gen Power Holdings II, LLC, et al.

Filed Date: 3/19/21.

Accession Number: 20210319-5265.

Comments Due: 5 p.m. ET 4/9/21.

Take notice that the Commission received the following electric rate filings:

Docket Numbers: ER15-2115-009.

Applicants: Southwest Power Pool, Inc.

Description: Compliance filing: Compliance Filing in Response to Order issued in ER15-2115-008 (NIPCO) to be effective N/A.

Filed Date: 3/22/21.

Accession Number: 20210322-5107.

Comments Due: 5 p.m. ET 4/12/21.

Docket Numbers: ER17-2087-005; ER17-1315-007; ER17-1316-004; ER17-1318-004; ER20-2746-001.

Applicants: Hog Creek Wind Project, LLC, Meadow Lake Wind Farm V LLC, Quilt Block Wind Farm LLC, Redbed Plains Wind Farm LLC, Riverstart Solar Park LLC.

Description: Notice of Change in Status of Hog Creek Wind Project, LLC, et al.

Filed Date: 3/19/21.

Accession Number: 20210319-5281.

Comments Due: 5 p.m. ET 4/9/21.

Docket Numbers: ER21-834-001.

Applicants: Midcontinent Independent System Operator, Inc.

Description: Tariff Amendment: 2021-03-22_SA 3599 Deficiency Response to MidAmerican-Heartland Divide FSA to be effective 1/1/2021.

Filed Date: 3/22/21.

Accession Number: 20210322-5205.

Comments Due: 5 p.m. ET 4/12/21.

Docket Numbers: ER21-836-001.

Applicants: Midcontinent Independent System Operator, Inc.

Description: Tariff Amendment: 2021-03-22_SA 3601 Deficiency Response to MidAmerican-Heartland Divide FSA to be effective 1/1/2021.

Filed Date: 3/22/21.

Accession Number: 20210322-5206.

Comments Due: 5 p.m. ET 4/12/21.

Docket Numbers: ER21-837-001.

Applicants: Midcontinent Independent System Operator, Inc.

Description: Tariff Amendment: 2021-03-22_SA 3602 Deficiency Response to MidAmerican-Heartland Divide FSA to be effective 1/1/2021.

Filed Date: 3/22/21.

Accession Number: 20210322-5208.

Comments Due: 5 p.m. ET 4/12/21.

Docket Numbers: ER21-1489-000.

Applicants: Midcontinent Independent System Operator, Inc., MidAmerican Energy Company.

Description: § 205(d) Rate Filing: 2021-03-22_SA 2237 MEC-NIPCO IA (GFA 480) to be effective 3/23/2021.

Filed Date: 3/22/21.

Accession Number: 20210322-5092.

Comments Due: 5 p.m. ET 4/12/21.

Docket Numbers: ER21-1490-000.

Applicants: PJM Interconnection, L.L.C.

Description: § 205(d) Rate Filing: Original ISA, Service Agreement No. 5990; Queue No. AF2-265 to be effective 2/18/2021.

Filed Date: 3/22/21.

Accession Number: 20210322-5094.

Comments Due: 5 p.m. ET 4/12/21.

Docket Numbers: ER21-1491-000.

Applicants: PacifiCorp.

Description: Notice of Cancellation of Rate Schedule No. 274 with Utah Power and Light Company and El Paso Electric Company of PacifiCorp.

Filed Date: 3/19/21.

Accession Number: 20210319-5259.

Comments Due: 5 p.m. ET 4/9/21.

Docket Numbers: ER21-1492-000.

Applicants: Blue Lake Power, LLC.

Description: Request for Limited Waiver of California Independent System Operator Corporation Tariff Provisions of Blue Lake Power, LLC.

Filed Date: 3/19/21.

Accession Number: 20210319-5260.

Comments Due: 5 p.m. ET 4/9/21.

Docket Numbers: ER21-1493-000.

Applicants: El Paso Electric Company.

Description: Notice of Cancellation of Rate Schedule No. 26 with Utah Power and Light Company of El Paso Electric Company.

Filed Date: 3/19/21.

Accession Number: 20210319-5279.

Comments Due: 5 p.m. ET 4/9/21.

Docket Numbers: ER21-1494-000.

Applicants: PJM Interconnection, L.L.C.

Description: § 205(d) Rate Filing: Original ISA, Service Agreement No. 5987; Queue No. AF2-247 to be effective 2/19/2021.

Filed Date: 3/22/21.

Accession Number: 20210322-5163.

Comments Due: 5 p.m. ET 4/12/21.

Docket Numbers: ER21-1495-000.

Applicants: New York Independent System Operator, Inc.

Description: § 205(d) Rate Filing: EPC Agreement among NYISO, NMPC, Roaring Brook and Flat Rock SA 2598 to be effective 3/8/2021.

Filed Date: 3/22/21.

Accession Number: 20210322-5215.

Comments Due: 5 p.m. ET 4/12/21.

Docket Numbers: ER21-1496-000.

Applicants: American Transmission Systems, Incorporated, PJM Interconnection, L.L.C.

Description: § 205(d) Rate Filing: ATSI Submits Revised IA No. 3992 to be effective 5/22/2021.

Filed Date: 3/22/21.

Accession Number: 20210322-5220.

Comments Due: 5 p.m. ET 4/12/21.

Docket Numbers: ER21-1497-000.

Applicants: The Empire District Electric Company.

Description: § 205(d) Rate Filing: Amendment to Cost-Based Generation Formula Rate to be effective 5/14/2021.

Filed Date: 3/22/21.

Accession Number: 20210322-5240.

Comments Due: 5 p.m. ET 4/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 22, 2021.
Nathaniel J. Davis, Sr.,
Deputy Secretary.

[FR Doc. 2021-06364 Filed 3-26-21; 8:45 am]

BILLING CODE 6717-01-P